DEPARTMENT OF AGRICULTURE

Foreign Agricultural Service

Notice of Request for Extension of a Currently Approved Information Collection

AGENCY: Foreign Agricultural Service, USDA.

ACTION: Notice and request for comments.

SUMMARY: In accordance with the Paperwork Reduction Act of 1995, the Foreign Agricultural Service (FAS) is announcing its intention to request an extension for a currently approved information collection process in support of the McGovern-Dole International Food for Education and Child Nutrition Program.

DATES: Comments on this notice must be received by April 16, 2006 to be assured of consideration.

Additional Information or Comments: Contact William Hawkins, Director, Program Administration Division, Foreign Agricultural Service, U.S. Department of Agriculture, AgStop 1031, Washington, DC 20250-1031, telephone (202) 720-3241.

SUPPLEMENTARY INFORMATION: Title: McGovern-Dole International Food for Education and Child Nutrition Program.

OMB Control Number: 0551-0039.

Type of Request: Extension of a currently approved information collection.

Abstract: This information is needed to administer the McGovern-Dole International Food for Education and Child Nutrition Program. The information will be gathered from applicants desiring to receive grants under the program to determine the viability of requests for resources to implement school feeding and maternal and child nutrition programs in foreign countries and other periodic reports during the course of implementing the activities.

Estimate of Burden: Public reporting burden for this collection of the additional information is estimated to average 10.6 hours per applicant.

Respondents: Private voluntary organizations, shipping agents, ship owners/brokers, and survey companies.

Estimated Number of Respondents: 156.

Estimated Number of Responses per Respondent: 7.

Estimated Total Annual Burden on Respondents: 11,607 hours.

Copies of the information collection may be obtained from Kimberly Chisley, the Agency Information Collection Coordinator, at (202) 720-2568.

Request for Comments: Send comments regarding (a) Whether the collection of information is necessary for the proper performance of the functions of the agency, including whether the information will practical utility; (b) the accuracy of the agency's estimate of burden including the validity of the methodology and assumptions used; (c) ways to enhance the quality, utility, and clarity of the information to be collected; or (d) ways to minimize the burden of the collection of information on those who are to respond, including the use of appropriate automated, electronic, mechanical or other technological collection techniques or other forms of information technology.

Comments should be sent to the Desk Officer for Agriculture, Office of Information and Regulatory Affairs, Office of Management and Budget, Washington, DC 20503 and to: William S. Hawkins, Director, Program Administration Division, Foreign Agricultural Service, United States Department of Agriculture, 1400 Independence Ave., SW., Stop 1031, Washington, DC 20250-1031; Telephone (202) 720-3241.

All responses to this notice will be summarized. All comments will also become a matter of public record.

Dated: Signed at Washington, DC on January 31, 2006.
A. Ellen Terpstra,
Administrator, Foreign Agricultural Service.

[FR Doc. 06-1245 Filed 2-9-06; 8:45 am]

BILLING CODE 3410-10-M